ENVIRONMENTAL PROTECTION AGENCY

40 CFR Part 136

[FRL-6729-3]

Guidelines Establishing Test Procedures for the Analysis of Pollutants; Centralized Waste Treatment and Landfills Point Source Categories; Notice of Data Availability and Request for Comment

AGENCY: Environmental Protection Agency (EPA).

ACTION: Notice of data availability and request for comment.

SUMMARY: On January 13, 1999, EPA proposed effluent limitations guidelines, pretreatment standards, and new source performance standards for the Centralized Waste Treatment (CWT) Point Source Category to limit effluent discharges to waters of the United States and the introduction of pollutants into publicly owned treatment works. The comment period for the proposal closed on March 15, 1999.

In the CWT proposal, EPA noted plans for a validation study for several pollutants found during EPA's data gathering, using EPA Methods 625 and 1625. Today, EPA invites comment on the validation data for the pollutants included in the CWT proposal. EPA plans to use these data to support the use of EPA Methods 625 and 1625, as amended, in the upcoming final CWT rule, and to establish performance criteria for the additional analytes. EPA is soliciting comment only on the new information and data being made available today.

Today's document also provides notice that EPA will clarify the scope of recently-published amendments to EPA Methods 625 and 1625 for the Landfills Point Source Category.

DATES: Submit an original and three copies of your comments on or before August 4, 2000.

ADDRESSES: Please send an original and 3 copies of your comments and enclosures (including references) to “Centralized Waste Treatment—Notice of Data Availability,” W-98-21 Comment Clerk, Water Docket (MC-4101), U.S. Environmental Protection Agency, Ariel Rios Building, 1200 Pennsylvania Ave., NW. Washington, DC 20460. Hand deliveries should be delivered to: EPA's Water Docket at 401 M St., SW., Room EB-57, Washington, DC.

Commenters who want EPA to acknowledge receipt of their comments should enclose a self-addressed, stamped envelope. No facsimiles (faxes) will be accepted. Comments may also be submitted electronically to ow-docket@epamail.epa.gov. Electronic comments must be submitted as an ASCII, WP5.1, WP6.1 or WP8 file avoiding the use of special characters and any form of encryption. Electronic comments must be identified by the docket number [W-98-21]. Comments and data will also be accepted on disks in WP5.1, WP6.1, WP8 or ASCII file format. Electronic comments on this notice may be filed online at many Federal Depository Libraries.

The record for this rulemaking has been established under docket number [W-98-21], and includes supporting documentation as well as printed, paper versions of electronic comments. The record is available for inspection from 9:00 a.m. to 4:00 p.m., Monday through Friday, excluding legal holidays, at EPA's Water Docket, 401 M St., Room EB-57, SW., Washington, DC. For access to docket materials, please call 202/260-3027 to schedule an appointment.

FOR FURTHER INFORMATION CONTACT: Dr. Maria Gomez-Taylor, Engineering and Analysis Division (MC-4303), USEPA Office of Science and Technology, 1200 Pennsylvania Avenue, Ariel Rios Building, N.W. Washington, D.C., 20460, or call (202) 260-1639.

SUPPLEMENTARY INFORMATION: On January 13, 1999, EPA proposed effluent limitations guidelines, pretreatment standards, and new source performance standards for the Centralized Waste Treatment (CWT) Point Source Category (64 FR 2280). The comment period for the proposal closed on March 15, 1999. These comments may be reviewed in the Water Docket at EPA Headquarters (see address above).

In the January 1999 Federal Register notice, EPA discussed the use of modified versions of EPA Methods 625 and 1625 for the determination of all CWT semivolatile organic pollutants, including some analytes not currently listed in these methods, which are published at 40 CFR part 136, Appendix A. The proposed modifications to EPA Methods 625 and 1625 were included in the EPA Water Docket at proposal. The modified versions of these methods would allow the analysis of all CWT semivolatile organic pollutants in the proposed rule. In the preamble to the CWT proposal, the Agency noted its plans to conduct further validation of these method modifications and also noted plans to promulgate these method modifications in the final rulemaking for CWT.

Following proposal, EPA conducted a validation study to demonstrate the performance of the methods and to use the data gathered during the study to develop quality control (QC) acceptance criteria for the target pollutants. The resulting modifications to EPA Methods 625 and 1625 consist of text, performance data, and quality control (QC) acceptance criteria for the additional target analytes. The eleven CWT target analytes are acetophenone, aniline, benzoic acid, 2,3-dichloroaniline, o-cresol, p-cresol, pyridine, alpha-terpineol, carbazole, n-decane, and n-octadecane. This information would allow a laboratory to practice the methods with the additional analytes as an integral part. In addition to the CWT pollutants, the study included five pollutants for which EPA had proposed and then promulgated effluent limitations in the Landfills Point Source Category (see 63 FR 6425, February 6, 1998 and 65 FR 3007, January 19, 2000, respectively). The five Landfill analytes (aniline, benzoic acid, o-cresol, p-cresol, and pyridine) are among the CWT target analytes. The data collected in support of both CWT and Landfills were published in a validation study report dated October 1999, and that report is available for review in EPA's Water Docket. EPA will review the public comments received on the study and may, based on those comments, amend the 40 CFR part 136 revisions made in the Landfills rule to revise the list of analytes subject to Methods 625 and 1625.

Today's notice solicits comments only on the new data which support the use of Methods 625 and 1625 for the pollutants in the CWT rule. Specifically, the Agency seeks comment on the data summarized in the study report and placed in EPA's Water Docket. The Agency in not reopening the comment period on the entire proposed rule. Therefore, comments on other aspects of the proposal will not be considered.

The final rule for the Landfills Point Source Category (see 65 FR 3008, January 19, 2000) promulgated amendments to EPA Methods 625 and 1625 by modifying the methods for additional pollutants, including the five pollutants of concern for Landfills. These amendments are also available for review in EPA's Water Docket. Since publication of that rule, EPA has received inquiries about the scope and applicability of the amendments to Methods 625 and 1625 promulgated at 40 CFR part 136 pertaining to the Landfills rule. Specifically, EPA received questions on whether these amendments apply to any other point source categories. Today's notice clarifies EPA's intent regarding the published amendments to these methods. The amendments are applicable only to the five regulated pollutants in the Landfills rule when found in the waste streams regulated under that rule. When EPA promulgates effluent limitations and standards for CWT, EPA plans to further amend the methods to specify that the revisions to Methods 625 and 1625 are only applicable to the five pollutants in the Landfills rule (listed above) and to the eleven pollutants promulgated in the final CWT rule and only for the waste streams regulated under those rules.

EPA intends to use the revised Methods 625 and 1625 for monitoring the pollutants regulated in the CWT and Landfills rules only and not for general use. To clarify this intent, EPA plans to amend Methods 625 and 1625 in the upcoming final CWT rule to limit the scope and applicability to these rules. These amendments will clarify the Agency's objective to expand the scope of Methods 625 and 1625 for complying with monitoring requirements for the additional pollutants regulated in the two effluent guidelines discussed herein (i.e., CWT and Landfills only).

Dated: June 27, 2000.
J. Charles Fox,
Assistant Administrator for Water.

[FR Doc. 00-16756 Filed 7-3-00; 8:45 am]

BILLING CODE 6560-50-P